ENVIRONMENTAL PROTECTION AGENCY

[ER-FRL-6657-6]

Environmental Impact Statements and Regulations; Availability of EPA Comments

Availability of EPA comments prepared pursuant to the Environmental Review Process (ERP), under Section 309 of the Clean Air Act and Section 102(2)(c) of the National Environmental Policy Act, as amended. Requests for copies of EPA comments can be directed to the Office of Federal Activities at (202) 564-7167.

An explanation of the ratings assigned to draft environmental impact statements (EISs) was published in FR dated April 02, 2004 (69 FR 17403).

Draft EISs

ERP No. D-AFS-G65094-NM Rating LO, Ojo Caliente Proposed Transmission Line, Authorization for Construction, Operation, and Maintenance of a New 115kV Transmission Line and Substation, Carson National Forest and BLM Taos Field Office, Taos and Rio Arriba Counties, NM.

Summary: EPA has no objection to the selection of the preferred Alternative D with options. ERP No. D-AFS-J65424-MT Rating EC2, Fishtrap Project, Proposed Timber Harvest, Prescribed Burning Road Construction and Other Restoration Activities, Lolo National Forest, Plains/Thompson Falls Ranger District, Sanders County, MT.

Summary: EPA supports Alternative 2 and it's potential to improve water quality, reduce road density and decrease habitat fragmentation in the long-term. However, EPA expressed concerns about the short-term impacts of increased sedimentation on water quality and bull trout. EPA recommend earlier implementation of road BMP improvements and road restoration relative to timber harvest and road construction, and additional road closure and decommissioning in the Upper Fishtrap drainage.

ERP No. D-DHS-D11036-MD Rating EC2, National Biodefense Analysis and Countermeasures Center (NBACC) Facility at Fort Detrick, Construction and Operation, Fort Detrick, Frederick County, MD.

Summary: EPA is concerned with the fracture trace located directly on the proposed project site and the potential impacts to groundwater.

Final EISs

ERP No. F-AFS-K65263-CA Meteor Project, Proposal for Harvesting Timber and Conducting Associated Activities on 744 Acres, Implementation, Klamath National Forest, Salmon River Ranger District, Siskiyou County, CA.

Summary: The Final EIS addressed EPA's concerns and no formal comments were sent to the preparing agency.

Dated: November 8, 2004.
Robert W. Hargrove,
Director, NEPA Compliance Division, Office of Federal Activities.

[FR Doc. 04-25202 Filed 11-10-04; 8:45 am]

BILLING CODE 6560-50-P